DEPARTMENT OF HEALTH AND HUMAN SERVICES

Centers for Medicare & Medicaid Services

[CMS-1586-N]

Medicare Program; First Semi-Annual Meeting of the Advisory Panel on Hospital Outpatient Payment (HOP—Formerly Known as the Advisory Panel on Ambulatory Payment Classification Groups—APC Panel)—February 27, 28, and 29, 2012

AGENCY: Centers for Medicare & Medicaid Services (CMS), HHS.

ACTION: Notice.

SUMMARY: This notice announces the first semi-annual meeting of the Advisory Panel on Hospital Outpatient Payment (HOP), formerly known as the Advisory Panel on Ambulatory Payment Classification Groups (the APC Panel) for 2012. The purpose of the Panel is to advise the Secretary of the Department of Health and Human Services (DHHS) (the Secretary) and the Administrator of the Centers for Medicare & Medicaid Services (CMS) (the Administrator) on the clinical integrity of the APC groups and their associated weights, and hospital outpatient supervision issues.

DATES: Meeting Date: The first semi-annual meeting in 2012 is scheduled for the following dates and times:

• Monday, February 27, 2012, 1 p.m. to 5 p.m. eastern standard time (e.s.t.) ¹

• Tuesday, February 28, 2012, 9 a.m. to 5 p.m. (e.s.t.) ¹

• Wednesday, February 29, 2012, 9 a.m. to 5 p.m. (e.s.t.) ¹

Note: ¹ The times listed in this notice are approximate times; consequently, the meetings may last longer than listed in this notice, but will not begin before the posted times.

Deadlines

Deadline for Presentations and Comments (which includes both hardcopy and email submissions)—5 p.m. (e.s.t.), Friday, December 30, 2011. (See below for submission instructions.)

Deadline for Meeting Registration (Note: Those who do not pre register may not be able to attend the meeting since seating space is limited)—5 p.m. (e.s.t.), Friday, January 27, 2012.

Deadline for Requests for Special Accommodations—5 p.m. (e.s.t.), Friday, January 27, 2012.

Submission Instructions for Presentations and Comments

Because of staffing and resource limitations, we cannot accept written comments and or presentations by FAX, nor can we print written comments and presentations received by email for dissemination at the meeting.

Presentations:

Presentations must be based on the scope of the Panel designated in the Charter. Any presentations outside of the scope of this Panel will be returned and or amendments requested. Unrelated topics include, but are not limited to, the conversion factor, charge compression, revisions to the cost report, pass-through payments, correct coding, new technology applications (including supporting information/documentation), provider payment adjustments, and which types of practitioners are permitted to supervise hospital outpatient services.

All presentations will be considered public information and will be posted on the CMS Web site. Presenters should not send pictures of patients in any of the documents (unless their faces have been blocked out) or include any examples with patient identifiable information.

In order to consider presentation and/or comment requests, we will need to receive the following information:

1. A hardcopy of your presentation; only hardcopy comments and presentations can be reproduced for public dissemination. We note that all presentations are limited to 5 minutes per individual or organization.

2. An email copy of your presentations sent to the Panel mailbox, APCPanel.cms.hhs.gov or to the DFO, Paula.Smith@cms.hhs.gov.

3. Form CMS-20017 with complete contact information that includes name, address, phone, and email addresses for all presenters and a contact person that can answer any questions and or provide revisions that are requested for the presentation.

○ Presenters must clearly explain the actions that they are requesting CMS to take in the appropriate section of the form. A presenter's relationship to the organization that they represent must also be clearly listed.

○ The form is now available through the CMS Forms Web site. The Uniform Resource Locator (URL) for linking to this form is as follows: http://www.cms.hhs.gov/cmsforms/downloads/cms20017.pdf.

ADDRESSES: Meeting Location: The meeting will be held in the Auditorium, CMS Central Office, 7500 Security Boulevard, Woodlawn, Maryland 21244-1850.

FOR FURTHER INFORMATION CONTACT: For inquiries about the Panel, contact the Designated Federal Officier (DFO):

Paula Smith, 7500 Security Boulevard, Mail Stop C4-05-17, Woodlawn, MD 21244-1850. Phone: (410) 786-4709.

Mail hardcopies and email copies to the following addresses:

Paula Smith, DFO, CMS, CM, HAPC, DOC—HOPS Panel, 7500 Security Blvd., Woodlawn, MD 21244-1850, Mail Stop C4-05-17, Paula.Smith@cms.hhs.gov or APCPanel@cms.hhs.gov.

Note: We recommend that you advise couriers of the following information: When delivering hardcopies of presentations to CMS, if no one answers at the above phone number, call (410) 786-4532 or (410) 786-7267.

News media representatives must contact our Public Affairs Office at (202) 690-6145.

Advisory Committees' Information Lines: The phone numbers for the CMS Federal Advisory Committee Hotline are 1-(877) 449-5659 (toll free) and (410) 786-9379 (local).

Web Sites: For additional information on the Panel and updates to the Panel's activities, we are referring readers to view our Web site at the following: http://www.cms.hhs.gov/FACA/05_AdvisoryPanelonAmbulatoryPaymentClassificationGroups.asp#TopOfPage. (Use control + click the mouse in order to access the previous URL.)

Note: There is an underscore after FACA/05 (like this_); there is no space.

You may also search information about the Panel and its membership in the FACA database at the following URL: https://www.fido.gov/facadatabase/public.asp.

SUPPLEMENTARY INFORMATION:

I. Background

The Secretary of the Department of Health and Human Services (DHHS) (the Secretary) is required by section 1833(t)(9)(A) of the Social Security Act (the Act) and section 222 of the Public Health Service Act (PHS Act) to consult with an expert outside advisory panel regarding the clinical integrity of the Ambulatory Payment Classification (APC) groups and relative payment weights. The Hospital Outpatient Payment (HOP) Panel (which was formerly known as the Advisory Panel on Ambulatory Payment Classification Groups) is governed by the provisions of the Federal Advisory Committee Act (FACA) (Pub. L. 92-463), as amended (5 U.S.C. Appendix 2), which sets forth standards for the formation and use of advisory panels.

The Charter provides that the Panel shall meet up to 3 times annually. We consider the technical advice provided by the Panel as we prepare the proposed and final rules to update the outpatient prospective payment system (OPPS) for the next calendar year.

II. Agenda

The agenda for the February 2012 meeting will provide for discussion and comment on the following topics as designated in the Panel's Charter:

• Addressing whether procedures within an APC group are similar both clinically and in terms of resource use.

• Evaluating APC group weights.

• Reviewing the packaging of OPPS services and costs, including the methodology and the impact on APC groups and payment.

• Removing procedures from the inpatient list for payment under the OPPS.

• Using single and multiple procedure claims data for CMS' determination of APC group weights.

• Addressing other technical issues concerning APC group structure.

• Addressing supervision of outpatient services.

The subject matter before the Panel will be limited to these and related topics. Unrelated topics include, but are not limited to, the conversion factor, charge compression, revisions to the cost report, pass-through payments, correct coding, new technology applications (including supporting information/documentation), provider payment adjustments, and which types of practitioners are permitted to supervise hospital outpatient services.

The Panel may use data collected or developed by entities and organizations, other than the DHHS and CMS, in conducting its review. We recommend that organizations submit data for the Panel's and CMS staff's review. The Agenda will be posted on the CMS Web site before the meeting.

III. Oral Comments

In addition to formal oral presentations, which are limited to 5 minutes per individual or organization, there will be opportunity during the meeting for public oral comments, which will be limited to 1 minute for each individual.

IV. Meeting Attendance

The meeting is open to the public; however, attendance is limited to space available. Priority will be given to those who pre-register and attendance may be limited based on the number of registrants and the space available.

Persons wishing to attend this meeting, which is located on Federal property, must email the DFO as specified in the FOR FURTHER INFORMATION CONTACT section of the notice to register in advance no later than 5 p.m. (e.s.t.), January 27, 2012. A confirmation will be sent to the requester(s) by return email within 10 days of the meeting.

In the email request for registration, include the following information:

• Name(s) of attendees.

• Title(s).

• Organization.

• Office address, including city and State.

• Email address(es).

• Telephone number(s).

V. Security, Building, and Parking Guidelines

The following are the security, building, and parking guidelines:

• Persons attending the meeting including presenters must be pre-registered and on the attendance list by the prescribed date.

• Individuals who are not pre-registered in advance may not be permitted to enter the building and may be unable to attend the meeting.

• Attendees must present photo identification (ID) to the Federal Protective Service or Guard Service personnel before entering the building. Without a current, valid photo ID, you may not be permitted entry to the building.

• Security measures include inspection of vehicles, inside and out, at the entrance to the grounds.

• All persons entering the building must pass through a metal detector.

• All items brought into CMS, including personal items for example, laptops and cell phones, are subject to physical inspection.

• The public may enter the building 30 to 45 minutes before the meeting convenes each day.

• All visitors must be escorted in areas other than the lower and first-floor levels in the Central Building.

• The main-entrance guards will issue parking permits and instructions upon arrival at the building.

VI. Special Accommodations

Individuals requiring sign-language interpretation or other special accommodations must send a request for these services to the DFO by 5 p.m. (e.s.t.), Friday, January 27, 2012.

VII. Panel Recommendations and Discussions

The Panel's recommendations at any Panel meeting generally are not final until they have been reviewed and approved by the Panel on the last day of the meeting, before the final adjournment. These recommendations are posted on the CMS Web site after the meeting.

VIII. Collection of Information Requirements

This document does not impose information collection and recordkeeping requirements. Consequently, it need not be reviewed by the Office of Management and Budget under the authority of the Paperwork Reduction Act of 1995 (44 U.S.C. 35).

(Catalog of Federal Domestic Assistance Program; No. 93.773 Medicare—Hospital Insurance Program; and No. 93.774, Medicare—Supplementary Medical Insurance Program)

Dated: December 1, 2011.
Donald M. Berwick,
Administrator, Centers for Medicare & Medicaid Services.

[FR Doc. 2011-32298 Filed 12-15-11; 8:45 am]

BILLING CODE 4120-01-P